MEDICARE PAYMENT ADVISORY COMMISSION

Commission Meeting

AGENCY: Medicare Payment Advisory Commission.

ACTION: Notice of meeting.

SUMMARY: The Commission will hold its next public meeting on Thursday, September 11, 2003, and Friday, September 12, 2003, at the Ronald Reagan Building, International Trade Center, 1300 Pennsylvania Avenue, NW., Washington, DC. The meeting is tentatively scheduled to begin at 10 a.m. on September 11, and at 9 a.m. on September 12.

Topics for discussion include: setting the context for Medicare spending; disease management and care coordination services in traditional Medicare; the quality of care in Medicare; outpatient dialysis payment issues; risk adjustment in Medicare+Choice; inpatient hospital issues; workplans for payment adequacy analyses, including physicians, hospital outpatient departments, and post-acute care providers. There will also be a panel on the growth and variation in the use of physician services.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 03-22344 Filed 8-29-03; 8:45 am]

BILLING CODE 6820-BW-M